DEPARTMENT OF COMMERCE

International Trade Administration

[C-580-879]

Certain Corrosion-Resistant Steel Products From the Republic of Korea: Initiation of Expedited Review of the Countervailing Duty Order

AGENCY: Enforcement and Compliance, International Trade Administration, Department of Commerce.

SUMMARY: The Department of Commerce (the Department) is initiating an expedited review of the countervailing duty order on certain corrosion-resistant steel products (CORE) from the Republic of Korea (Korea) with respect to POSCO and Hyundai Steel Company (Hyundai).

DATES: Effective October 4, 2016.

FOR FURTHER INFORMATION CONTACT: Myrna Lobo, AD/CVD Operations, Enforcement and Compliance, International Trade Administration, U.S. Department of Commerce, 14th Street and Constitution Avenue NW., Washington, DC 20230; telephone (202) 482-2371.

SUPPLEMENTARY INFORMATION:

Background

On July 25, 2016, the Department published the countervailing duty order on CORE from Korea.¹ On August 24, 2016, the Department received requests from POSCO and Hyundai to conduct an expedited review of this countervailing duty order.² POSCO and Hyundai were not selected for individual examination during the investigation and made these requests pursuant to 19 CFR 351.214(k).

¹ See Certain Corrosion-Resistant Steel Products From India, Italy, Republic of Korea and the People's Republic of China: Countervailing Duty Order, 81 FR 48387 (July 25, 2016).

² See letter from POSCO, “Corrosion-Resistant Steel Products from South Korea, Case No. C-580-879: Request for Expedited Review Pursuant to 19 CFR 351.214(k),” (August 24, 2016). See also letter from Hyundai, “Corrosion-Resistant Steel Products from South Korea, Case No. C-580-879: Request for Expedited Review Pursuant to 19 CFR 351.214(k),” (August 24, 2016).

Initiation of Expedited Review

In accordance with 19 CFR 351.214(k)(1)(i)-(iii), POSCO and Hyundai each certified that it exported the subject merchandise to the United States during the period of investigation; that it was not affiliated with an exporter or producer that the Department individually examined in the investigation; and that it informed the Government of Korea, as the government of the exporting country, that the government will be required to provide a full response to the Department's questionnaire.

Therefore, in accordance with 19 CFR 351.214(k), we are initiating an expedited review of the countervailing duty order on CORE from Korea. Pursuant to 19 CFR 351.214(i)(1) and (k)(3), we intend to issue the preliminary results of this expedited review not later than 180 days from the date of initiation of this review.³ As specified by 19 CFR 351.214(k)(3)(i), the period of review will be the same as the original period of investigation, i.e., January 1, 2014, through December 31, 2014.

³ Under 19 CFR 351.214(k)(i)(2), this period may be extended to 300 days.

Pursuant to 19 CFR 351.214(k)(3)(iii), the final results of this expedited review will not be the basis for the assessment of countervailing duties. Instead, this expedited review is intended to establish individual cash deposit rates for POSCO and Hyundai, or to exclude from the countervailing duty order a company for which the final results of review are zero or de minimis, as provided in 19 CFR 351.214(k)(3)(iv) .

Interested parties must submit applications for disclosure under administrative protective orders in accordance with 19 CFR 351.305 and 351.306.

Dated: September 28, 2016.
Christian Marsh,
Deputy Assistant Secretary for Antidumping and Countervailing Duty Operations.

[FR Doc. 2016-23967 Filed 10-3-16; 8:45 am]

BILLING CODE 3510-DS-P